SMALL BUSINESS ADMINISTRATION

[Disaster Declaration #20672 and #20673; KANSAS Disaster Number KS-20016]

Presidential Declaration Amendment of a Major Disaster for Public Assistance Only for the State of Kansas

AGENCY: U.S. Small Business Administration.

ACTION: Amendment 1.

SUMMARY: This is an amendment of the Presidential declaration of a major disaster for Public Assistance Only for the State of Kansas (FEMA-4824-DR), dated September 24, 2024.

DATES: Issued on October 4, 2024.

Physical Loan Application Deadline Date: November 25, 2024.

Economic Injury (EIDL) Loan Application Deadline Date: June 24, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for Private Non-Profit organizations in the State of Kansas, dated September 24, 2024, is hereby amended to include the following areas as adversely affected by the disaster.

Incident: Severe Storms, Straight-line Winds, Tornadoes, and Flooding.

Incident Period: June 26, 2024 through July 7, 2024.

Primary Counties: Logan, Pawnee, Wallace.

All other information in the original declaration remains unchanged.

(Catalog of Federal Domestic Assistance Number 59008)

Rafaela Monchek,
Deputy Associate Administrator, Office of Disaster Recovery & Resilience.

[FR Doc. 2024-23571 Filed 10-10-24; 8:45 am]

BILLING CODE 8026-09-P